DEPARTMENT OF TRANSPORTATION

Federal Aviation Administration

Notice of Intent of Waiver With Respect to Land; Indy South Greenwood Airport, Greenwood, Indiana

AGENCY: Federal Aviation Administration (FAA), DOT.

ACTION: Notice.

SUMMARY: The FAA is considering a proposal to change approximately 3.2 acres of airport land from aeronautical use to non-aeronautical use and to authorize the sale of airport property located at Indy South Greenwood Airport, Greenwood, IN. The aforementioned land is not needed for aeronautical use. The subject property is located on the north end of the airport on the west side of Runway 19 and is proposed to be sold for the development of a restaurant facility.

DATES: Comments must be received on or before July 21, 2023.

ADDRESSES: Documents are available for review by appointment at the FAA Chicago Airports District Office, Melanie Myers, Program Manager, 2300 East Devon Avenue, Des Plaines, IL 60018, Telephone: (847) 294-7525/Fax: (847) 294-7046.

Written comments on the Sponsor's request may be submitted using any of the following methods:

• Federal eRulemaking Portal: Go to https://www.regulations.gov, and follow the instructions for sending your comments electronically.

• Mail: Melanie Myers, Program Manager, Federal Aviation Administration, Chicago Airports District Office, 2300 East Devon Avenue, Des Plaines, IL 60018.

• Hand Delivery: Deliver to mail address above between 8 a.m. and 5 p.m. Monday through Friday, excluding Federal holidays.

• Fax: (847) 294-7046.

FOR FURTHER INFORMATION CONTACT: Melanie Myers, Program Manager, Federal Aviation Administration, Chicago Airports District Office, 2300 East Devon Avenue, Des Plaines, IL 60018. Telephone Number: (847) 294-7525/FAX Number: (847) 294-7046.

SUPPLEMENTARY INFORMATION: In accordance with section 47107(h) of Title 49, United States Code, this notice is required to be published in the Federal Register 30 days before modifying the land-use assurance that requires the property to be used for an aeronautical purpose.

The subject 3.2 acre parcel contains foundations and parking pads from hangars that were removed in 2016 and 2017. This land was part of the initial purchase of the airport and was funded by Airport Improvement Program (AIP) grant 03-18-0097-02. The Greenwood Board of Aviation Commissioners, Airport Sponsor of the Indy South Greenwood Airport proposes to sell this land for the development of a restaurant facility. The Airport Sponsor has obtained an appraisal and will receive fair market value for the sale of the land.

The disposition of proceeds from the sale of the airport property will be in accordance with FAA's Policy and Procedures Concerning the Use of Airport Revenue, published in the Federal Register on February 16, 1999 (64 FR 7696).

This notice announces that the FAA is considering the release of the subject airport property at the Indy South Greenwood Airport, Greenwood, Indiana from federal land covenants, subject to a reservation for continuing right of flight as well as restrictions on the released property as required in FAA Order 5190.6B section 22.16. Approval does not constitute a commitment by the FAA to financially assist in the disposal of the subject airport property nor a determination of eligibility for grant-in-aid funding from the FAA.

Survey Description

PART OF THE NORTHEAST QUARTER OF SECTION 28, TOWNSHIP 14 NORTH, RANGE 4 EAST, PLEASANT TOWNSHIP, JOHNSON COUNTY, INDIANA, DESCRIBED AS FOLLOWS:

COMMENCING AT A HARRISON MONUMENT AT THE NORTHEAST CORNER OF SAID NORTHEAST QUARTER; THENCE SOUTH 88 DEGREES 11 MINUTES 14 SECONDS WEST ALONG THE NORTH LINE OF SAID NORTHEAST QUARTER A DISTANCE OF 1598.94 FEET TO THE PLACE OF BEGINNING; THENCE SOUTH 00 DEGREES 29 MINUTES 33 SECONDS WEST A DISTANCE OF 748.60 FEET; THENCE SOUTH 88 DEGREES 19 MINUTES 33 SECONDS WEST A DISTANCE OF 446.64 FEET; THENCE NORTH 00 DEGREES 28 MINUTES 22 SECONDS EAST A DISTANCE OF 185.00 FEET; THENCE NORTH 88 DEGREES 19 MINUTES 33 SECONDS EAST A DISTANCE OF 283.50 FEET; THENCE NORTH 54 DEGREES 19 MINUTES 40 SECONDS EAST A DISTANCE OF 78.14 FEET; THENCE NORTH 00 DEGREES 29 MINUTES 33 SECONDS EAST A DISTANCE OF 519.63 FEET TO THE NORTH LINE OF SAID NORTHEAST QUARTER; THENCE NORTH 88 DEGREES 11 MINUTES 14 SECONDS EAST ALONG SAID NORTH LINE A DISTANCE OF 100.08 FEET TO THE PLACE OF BEGINNING. CONTAINING 3.221 ACRES, MORE OR LESS.

Issued in Des Plaines, IL on June 7, 2023.
Debra L. Bartell,
Manager, Chicago Airports District Office, FAA, Great Lakes Region.

[FR Doc. 2023-13095 Filed 6-20-23; 8:45 am]

BILLING CODE 4910-13-P